DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST)

Title: Identification of Human Cell Lines Project.

OMB Control Number: None.

Form Number(s): None.

Type of Request: Regular submission (new information collection).

Burden Hours: 250.

Number of Respondents: 100 (15 cell line limit).

Average Hours per Response: 2 hours and 30 minutes (10 minutes/cell line × 15 cell lines).

Needs and Uses: The NIST Biochemical Science Division proposes its intent to identify by short tandem repeat (STR) profiling up to 1,500 human cell line samples as part of the Identification of Human Cell Lines Project. All data and corresponding information will be posted in a publicly held database at the National Center for Biotechnology Information (NCBI).

Affected Public: Business or other for-profit organizations, and not-for-profit institutions.

Frequency: Once.

Respondent's Obligation: Voluntary.

OMB Desk Officer: Jasmeet Seehra, (202) 395-3123.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to Jasmeet Seehra, OMB Desk Officer, (202) 395-3123, FAX Number (202) 395-5167, or Jasmeet_K._Seehra@omb.eop.gov).

Dated: July 14, 2011.
Gwellnar Banks,
Management Analyst, Office of the Chief Information Officer.

[FR Doc. 2011-18086 Filed 7-18-11; 8:45 am]

BILLING CODE 3510-13-P